OVERSEAS PRIVATE INVESTMENT CORPORATION

Sunshine Act Cancellation Notice; OPIC's March 12, 2014 Annual Public Hearing

OPIC's Sunshine Act notice of its Annual Public Hearing was published in the Federal Register (Volume 79, Number 17, Page 4363) on January 27, 2014. No requests were received to provide testimony or submit written statements for the record; therefore, OPIC's Annual Public Hearing scheduled for 2 p.m., March 12, 2014 has been cancelled.

Contact Person for Information: Information on the hearing cancellation may be obtained from Connie M. Downs at (202) 336-8438, or via email at Connie.Downs@opic.gov.

Dated: March 11, 2014.
Connie M. Downs,
OPIC Corporate Secretary.

[FR Doc. 2014-05731 Filed 3-12-14; 11:15 am]

BILLING CODE 3210-01-P